DEPARTMENT OF THE INTERIOR

Bureau of Land Management

43 CFR Part 3000

Minerals Management: General

CFR Correction

In Title 43 of the Code of Federal Regulations, Part 1000 to End, revised as of October 1, 2009, on page 331, in § 3000.12, move paragraph (b) to below the table on page 332.

[FR Doc. 2010-24034 Filed 9-23-10; 8:45 am]

BILLING CODE 1505-01-D